DEPARTMENT OF ENERGY

Federal Energy Regulatory Commission

[Docket Nos. RP00-397-002, and RP01-33-004]

Questar Pipeline Company; Notice of Compliance Filing

March 22, 2002.

Take notice that on March 18, 2002, Questar Pipeline Company (Questar) tendered for filing as part of its FERC Gas Tariff, First Revised Volume No. 1, the tariff sheets listed on Appendix A to the filing, with an effective date of April 19, 2002.

Questar states that the filing is being made in compliance with the Commission's Order on Compliance with Order Nos. 637, 587-G and 587-L issued on February 14, 2002, (the February 14th order) in Docket Nos. RP00-397-000, RP01-33-000, -001 and -002.

The February 14th order approved, in part, Questar's pro forma tariff sheets filed July 17, 2000, and directed Questar to make further modifications. Questar tendered for filing, proposed actual tariff sheets that include the language approved in Questar's July 17, 2000, pro forma compliance filing as well as language that comports with the Commission's directives. These modifications are included in First Revised Volume No. 1 of Questar's FERC Gas Tariff to be effective April 19, 2002.

Questar states that a copy of this filing has been served upon its customers, the Public Service Commission of Utah and the Public Service Commission of Wyoming.

Any person desiring to protest said filing should file a protest with the Federal Energy Regulatory Commission, 888 First Street, NE, Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 / for assistance). Comments, protests and interventions may be filed electronically via the Internet in lieu of paper. See, 18 CFR 385.2001(a)(1)(iii) and the instructions on the Commission's Web site under the “e-Filing” link.

Linwood A. Watson, Jr.,
Deputy Secretary.

[FR Doc. 02-7456 Filed 3-27-02; 8:45 am]

BILLING CODE 6717-01-P